DEPARTMENT OF THE TREASURY

Office of Foreign Assets Control

31 CFR Part 560

Iranian Transactions Regulations

AGENCY: Office of Foreign Assets Control, Treasury.

ACTION: Final rule; amendment.

SUMMARY: The Office of Foreign Assets Control of the U.S. Department of the Treasury is amending the Iranian Transactions Regulations, 31 CFR part 560, effective immediately, to add a new general license authorizing U.S. persons who are employees or contractors of six international organizations to perform transactions for the conduct of the official business of those organizations in or involving Iran.

DATES: Effective date: August 22, 2006.

FOR FURTHER INFORMATION CONTACT: Assistant Director of Compliance Outreach/Implementation, tel.: 202/622-2490, Assistant Director of Licensing, tel.: 202/622-2480, Assistant Director of Policy, tel.: 202/622-4855, or Chief Counsel, tel.: 202/622-2410, Office of Foreign Assets Control, Department of the Treasury, Washington, DC 20220.

SUPPLEMENTARY INFORMATION:

Electronic and Facsimile Availability

This document and additional information concerning OFAC are available from OFAC's Web site (http://www.treas.gov/ofac) or via facsimile through a 24-hour fax-on-demand service, tel.: 202/622-0077.

Background

The Iranian Transactions Regulations, 31 CFR part 560 (the “ITR”), implement a series of Executive orders with respect to Iran, beginning with Executive Order 12957, issued on March 15, 1995. In that order, the President declared a national emergency pursuant to IEEPA to deal with the unusual and extraordinary threat to the national security, foreign policy, and economy of the United States constituted by the actions and policies of the Government of Iran, including its support for international terrorism, its efforts to undermine the Middle East peace process and its efforts to acquire weapons of mass destruction and the means to deliver them. To deal with this threat, Executive Order 12957 imposed prohibitions on certain transactions with respect to the development of Iranian petroleum resources. On May 6, 1995, the President issued Executive Order 12959 imposing comprehensive trade sanctions to further respond to this threat, and on August 19, 1997, the President issued Executive Order 13059 consolidating and clarifying the previous orders.

In light of the U.S. interest in promoting the hiring and retention of Americans by international organizations, the Treasury Department's Office of Foreign Assets Control (“OFAC”) today is amending the ITR, effective immediately, to add a new general license authorizing U.S. persons who are employees or contractors of six international organizations to perform transactions for the conduct of the official business of these organizations in or involving Iran. Paragraph (a) of new ITR § 560.539 specifies that the performance of transactions for the conduct of the official business of the United Nations, the World Bank, the International Monetary Fund, the International Atomic Energy Agency, the International Labor Organization or the World Health Organization by U.S. persons who are employees or contractors thereof is authorized, except as provided in paragraph (b) of the new section.

Paragraph (a) of § 560.539 also provides examples of authorized transactions, such as: the provision of services involving Iran necessary for carrying out the official business; purchasing Iranian goods and services for use in carrying out the official business; leasing office space and securing related goods and services; funds transfers to or from the accounts of the international organizations specified in the license, provided that funds transfers to or from Iran are not routed through an account of an Iranian bank on the books of a U.S. financial institution; and the operation of accounts for the employees and contractors in Iran, provided that transactions conducted through the accounts are solely for the employee's or contractor's personal use and not for any commercial purposes in or involving Iran, and any funds transfers to or from an Iranian bank are routed through a third-country bank that is not a U.S. person.

Paragraph (b) of § 560.539 provides that this new general license does not authorize (1) The exportation from the United States to Iran of any goods or technology listed on the Commerce Control List in the Export Administration Regulations, 15 CFR part 774, supplement No. 1 (CCL); (2) the reexportation to Iran of any U.S.-origin goods or technology listed on the CCL; or (3) the exportation or reexportation to Iran of any services not necessary and ordinarily incident to the international organization's official business in Iran. Such transactions require separate authorization from OFAC.

Public Participation

Because the Regulations involve a foreign affairs function, the provisions of Executive Order 12866 and the Administrative Procedure Act (5 U.S.C. 553) (the “APA”) requiring notice of proposed rulemaking, opportunity for public participation, and delay in effective date are inapplicable. Because no notice of proposed rulemaking is required for this rule, the Regulatory Flexibility Act (5 U.S.C. 601-612) does not apply.

Paperwork Reduction Act

As authorized in the APA, the Regulations are being issued without prior notice and public comment. The collections of information related to 31 part 560 are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 560

Administrative practice and procedure, Banks, Banking, Brokers, Foreign Trade, Investments, Loans, Securities, Iran.

For the reasons set forth in the preamble, the Office of Foreign Assets Control amends 31 CFR part 560 as follows:

PART 560—IRANIAN TRANSACTIONS REGULATIONS

1. The authority citation for part 560 continues to read as follows:

Authority: 3 U.S.C. 301; 18 U.S.C. 2339B, 2332d; 22 U.S.C. 2349aa-9; 31 U.S.C. 321(b); 50 U.S.C. 1601-1651, 1701-1706; Pub. L. 101-410, 104 Stat. 890 (28 U.S.C. 2461 note); Pub. L. 106-387, 114 Stat. 1549; E.O. 12613, 52 FR 41940, 3 CFR, 1987 Comp., p. 256; E.O. 12957, 60 FR 14615, 3 CFR, 1995 Comp., p. 332; E.O. 12959, 60 FR 24757, 3 CFR, 1995, Comp., 356; E.O. 13059, 62 FR 44531, 3 CFR, 1997 Comp., p. 217.

Subpart E—Licenses, Authorizations and Statements of Licensing Policy

2. Add a new § 560.539 to Subpart E to read as follows:

§ 560.539 Official Activities of Certain International Organizations.

(a) General License. Except as provided in paragraph (b) of this section, the performance of transactions for the conduct of the official business of the United Nations, the World Bank, the International Monetary Fund, the International Atomic Energy Agency, the International Labor Organization or the World Health Organization in or involving Iran by U.S. persons who are employees or contractors thereof is hereby authorized. Authorized transactions include, but are not limited to:

(1) The provision of services involving Iran necessary for carrying out the official business;

(2) Purchasing Iranian-origin goods and services for use in carrying out the official business;

(3) Leasing office space and securing related goods and services;

(4) Funds transfers to or from accounts of the international organizations covered in this paragraph, provided that funds transfers to or from Iran are not routed through an account of an Iranian bank on the books of a U.S. financial institution; and

(5) The operation of accounts for employees and contractors located in Iran who are described in this paragraph. Transactions conducted through these accounts must be solely for the employee's or contractor's personal use and not for any commercial purposes in or involving Iran. Any funds transfers to or from an Iranian bank must be routed through a third-country bank that is not a U.S. person.

(b) Limitations. This section does not authorize:

(1) the exportation from the United States to Iran of any goods or technology listed on the Commerce Control List in the Export Administration Regulations, 15 CFR part 774, supplement No. 1 (CCL);

(2) the reexportation to Iran of any U.S.-origin goods or technology listed on the CCL; or

(3) the exportation or reexportation from the United States or by a U.S. person, wherever located, to Iran of any services not necessary and ordinarily incident to the official business in Iran. Such transactions require separate authorization from OFAC.

Note to paragraph (b): The CCL includes items such as laptops, personal computers, cell phones, personal digital assistants and other wireless handheld devices/blackberries, and other similar items. The exportation of these items to Iran, even on a temporary basis, is prohibited, unless specifically authorized in a license issued pursuant to this part in a manner consistent with the Iran-Iraq Arms Nonproliferation Act of 1992 and other relevant law.

(c) Other Requirements. The general license set forth in this section shall not operate to relieve any persons authorized hereunder from compliance with any other U.S. legal requirements applicable to the transactions authorized pursuant to paragraph (a) of this section.

Dated: August 7, 2006.
Barbara C. Hammerle,
Acting Director, Office of Foreign Assets Control.
Approved: August 8, 2006.
Stuart A. Levey,
Under Secretary, Office of Terrorism and Financial Intelligence, Department of the Treasury.

[FR Doc. E6-13809 Filed 8-21-06; 8:45 am]

BILLING CODE 4811-37-P